FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 3, 2016.

A. Federal Reserve Bank of St. Louis (Yvonne Sparks, Community Development Officer) P.O. Box 442, St. Louis, Missouri 63166-2034:

1. First State Bank of St. Charles Employee Stock Ownership Plan, St. Charles, Missouri, with GreatBanc Trust Company, Lisle, Illinois, as trustee, and Kjersti L. Cory, Quincy, Illinois, as the individual acting as corporate trustee; to acquire voting shares of First State Bancshares, Inc., St. Charles, Missouri, and thereby increase its indirect control of First State Bank of St. Charles, Missouri, St. Charles, Missouri.

Board of Governors of the Federal Reserve System, May 9, 2016.
Michael J. Lewandowski,
Associate Secretary of the Board.

[FR Doc. 2016-11242 Filed 5-12-16; 8:45 am]

BILLING CODE 6210-01-P